ENVIRONMENTAL PROTECTION AGENCY

40 CFR Part 180

[EPA-HQ-OPP-2012-0001; FRL-9347-8]

Receipt of Several Pesticide Petitions Filed for Residues of Pesticide Chemicals in or on Various Commodities

AGENCY: Environmental Protection Agency (EPA).

ACTION: Notice of filing of petitions and request for comment.

SUMMARY: This document announces the Agency's receipt of several initial filings of pesticide petitions requesting the establishment or modification of regulations for residues of pesticide chemicals in or on various commodities.

DATES: Comments must be received on or before June 22, 2012.

ADDRESSES: Submit your comments, identified by docket identification (ID) number and the pesticide petition number (PP) of interest as shown in the body of this document, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), Mail Code: 28221T, 1200 Pennsylvania Ave. NW., Washington, DC 20460-0001.

• Hand Delivery: To make special arrangements for hand delivery or delivery of boxed information, please follow the instructions at http://www.epa.gov/dockets/contacts.htm.

Additional instructions on commenting or visiting the docket, along with more information about dockets generally, is available at http://www.epa.gov/dockets.

FOR FURTHER INFORMATION CONTACT: A contact person, with telephone number and email address, is listed at the end of each pesticide petition summary. You may also reach each contact person by mail at Registration Division (7505P), Office of Pesticide Programs, Environmental Protection Agency, 1200 Pennsylvania Ave. NW., Washington, DC 20460-0001.

SUPPLEMENTARY INFORMATION:

I. General Information

A. Does this action apply to me?

You may be potentially affected by this action if you are an agricultural producer, food manufacturer, or pesticide manufacturer. Potentially affected entities may include, but are not limited to:

• Crop production (NAICS code 111).

• Animal production (NAICS code 112).

• Food manufacturing (NAICS code 311).

• Pesticide manufacturing (NAICS code 32532).

This listing is not intended to be exhaustive, but rather provides a guide for readers regarding entities likely to be affected by this action. Other types of entities not listed in this unit could also be affected. The North American Industrial Classification System (NAICS) codes have been provided to assist you and others in determining whether this action might apply to certain entities. If you have any questions regarding the applicability of this action to a particular entity, consult the person listed at the end of the pesticide petition summary of interest.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

3. Environmental justice. EPA seeks to achieve environmental justice, the fair treatment and meaningful involvement of any group, including minority and/or low-income populations, in the development, implementation, and enforcement of environmental laws, regulations, and policies. To help address potential environmental justice issues, the Agency seeks information on any groups or segments of the population who, as a result of their location, cultural practices, or other factors, may have atypical or disproportionately high and adverse human health impacts or environmental effects from exposure to the pesticides discussed in this document, compared to the general population.

II. What action is the agency taking?

EPA is announcing its receipt of several pesticide petitions filed under section 408 of the Federal Food, Drug, and Cosmetic Act (FFDCA), 21 U.S.C. 346a, requesting the establishment or modification of regulations in 40 CFR part 174 or part 180 for residues of pesticide chemicals in or on various food commodities. The Agency is taking public comment on the requests before responding to the petitioners. EPA is not proposing any particular action at this time. EPA has determined that the pesticide petitions described in this document contain the data or information prescribed in FFDCA section 408(d)(2); however, EPA has not fully evaluated the sufficiency of the submitted data at this time or whether the data support granting of the pesticide petitions. After considering the public comments, EPA intends to evaluate whether and what action may be warranted. Additional data may be needed before EPA can make a final determination on these pesticide petitions.

Pursuant to 40 CFR 180.7(f), a summary of each of the petitions that are the subject of this document, prepared by the petitioner, is included in a docket EPA has created for each rulemaking. The docket for each of the petitions is available online at http://www.regulations.gov.

As specified in FFDCA section 408(d)(3), (21 U.S.C. 346a(d)(3)), EPA is publishing notice of the petition so that the public has an opportunity to comment on this request for the establishment or modification of regulations for residues of pesticides in or on food commodities. Further information on the petition may be obtained through the petition summary referenced in this unit.

New Tolerances

1. PP 2E7988. (EPA-HQ-OPP-2012-0204). Interregional Research Project Number 4 (IR-4), 500 College Road East, Suite 201 W, Princeton, NJ 08540, requests to establish tolerances in 40 CFR part 180 for residues of the insecticide imidacloprid (1-[6-chloro-3-pyridinyl) methyl]-N-nitro-2-imidazolidinimine) and its metabolites containing the 6-chloropyridinyl moiety, in or on fish at 0.05 parts per million (ppm) and fish-shellfish, mollusk at 0.05 ppm. Adequate enforcement methodologies, Bayer gas chromatography/mass spectrometry (GC/MS) method 00200 and Bayer GC/MS method 00191, is available to enforce the tolerance expression. Contact: Sidney Jackson, (703) 305-7610, email address: jackson.sidney@epa.gov.

2. PP 0F7690. (EPA-HQ-OPP-2012-0234). BASF Corporation, 26 Davis Drive, P.O. Box 13528, Research Triangle Park, NC 27709, requests to establish tolerances in 40 CFR part 180 for the insecticide for the combined residues of alpha-cypermethrin and cypermethrin including zeta-cypermethrin (S)-α-cyano-3-phenoxy-benzyl (1R,3R)-3-(2,2-dichlorovinyl)-2,2-dimethylcyclopropane-carboxylate and (R)-α-cyano-3-phenoxybenzyl (1S,3S)-3-(2,2-dichlorovinyl)-2,2-dimethylcyclopropane-carboxylate, in or on tree nuts (group 14); dried shelled pea and bean, except soybean (subgroup 6C); corn, grain; corn, corn, sweet; soybeans; and sugar beet roots at 0.05 ppm; succulent shelled pea and bean (subgroup 6B); and root and tuber vegetables (group 1) at 0.1 ppm; cucurbit vegetables (group 9); fruiting vegetables (group 8); sugar beet, tops; and wheat, grain at 0.2 ppm; citrus fruit (group 10) at 0.35 ppm; cottonseed, legume, edible podded vegetable (subgroup 6A); and sorghum, grain at 0.5 ppm; rice, grain at 1.5 ppm; citrus, dried pulp at 1.8 ppm; Brassica, head and stem (subgroup 5A) at 2.0 ppm; citrus, oil at 4.0 ppm; leafy vegetable, except Brassica (group 4) at 10 ppm; and alfalfa, hay at 15 ppm. Cypermethrin is a pyrethroid insecticide consisting of three asymmetric carbon atoms, and therefore, 8 stereo-isomeric mixtures. Cypermethrin is also characterized as consisting of cis- and trans-configured diastereo-isomeric components based on orientation around its cyclopropane ring. Zeta-cypermethrin and alpha-cypermethrin are optimized stereo-isomeric mixtures of cypermethrin, each consisting of 4 major components. These zeta-cypermethrin and alpha-cypermethrin components are the enriched trans- (alpha-S) and cis (cis2-R) isomeric orientations of cypermethrin, respectively. There is a practical analytical method for detecting and measuring levels of cypermethrin in or on food with a limit of detection (LOD) that allows monitoring of food with residues at or above the levels set in these tolerances GC with electron capture detection (GC/ECD) and liquid chromatography with tandem mass spectrometry (LC/MS/MS) methods are available. Contact: Bewanda Alexander, (703) 305-7460, email address: alexander.bewanda@epa.gov.

3. PP 1F7894. (EPA-HQ-OPP-2011-0668). E.I. du Pont de Nemours & Company (“DuPont”), 1007 Market Street, Wilmington, DE 19898, requests to establish tolerances in 40 CFR part 180 for residues of the insecticide cyantraniliprole, 3-bromo-1-(3-chloro-2-pyridinyl)-N-[4-cyano-2-methyl-6-[(methylamino)carbonyl]phenyl]-1H-pyrazole-5-carboxamide, including its metabolites and degradates, in or on almond hulls at 30 ppm; berries and small fruits, bushberries (crop subgroup 13-07B) at 4 ppm; Brassica (cole) leafy vegetables, head and stem Brassica (crop subgroup 5A) at 2 ppm; Brassica (cole) leafy vegetables, leafy Brassica greens (crop subgroup 5B) at 30 ppm; bulb vegetables, onion, bulb (crop subgroup 3-07A) at 0.04 ppm; bulb vegetables, onion, green (crop subgroup 3-07B) at 8 ppm; cattle, fat at 0.01 ppm; cattle, liver at 0.04 ppm; cattle, meat at 0.01 ppm; cattle, meat byproducts, except liver at 0.01 ppm; cherries at 6 ppm; citrus fruits (crop group 10-10) at 0.7 ppm; cotton gin byproduct at 10 ppm; cucurbit vegetables (crop group 9) at 0.3 ppm; fruiting vegetables (crop group 8-10) at 2 ppm; goat, fat at 0.01 ppm; goat, liver at 0.04 ppm; goat, meat at 0.01 ppm; goat, meat byproducts, except liver at 0.01 ppm; hog, fat at 0.01 ppm; hog, liver at 0.04 ppm; hog, meat at 0.01 ppm; hog, meat byproducts, except liver at 0.01 ppm; horse, fat at 0.01 ppm; horse, liver at 0.04 ppm; horse, meat at 0.01 ppm; horse, meat byproducts, except liver at 0.01 ppm; leafy vegetables (except Brassica vegetables) (crop group 4) at 15 ppm; milk at 0.01 ppm; milk, fat at 0.04 ppm; oilseeds, except cotton gin byproduct (crop group 20) at 1 ppm; pome fruits (crop group 11-10) at 0.8 ppm; root and tuber vegetables, tuberous and corm vegetables (crop subgroup 1C) at 0.15 ppm; sheep, fat at 0.01 ppm; sheep, liver at 0.04 ppm; sheep, meat at 0.01 ppm; sheep, meat byproducts, except liver at 0.01 ppm; stone fruits, except cherries (crop group 12) at 1.5 ppm; tree nuts, except almond hulls (crop group 14) at 0.06 ppm; citrus, oil at 6 ppm; citrus, raw peel at 2 ppm; and potato, wet peel at 0.3 ppm. In addition, DuPont is proposing pursuant to section 408 (d) of the Federal Food, Drug, and Cosmetic Act, 21 U.S.C. 346a (d), to amend 40 CFR part 180 to establish indirect or inadvertent tolerances for residues of cyantraniliprole, 3-bromo-1-(3-chloro-2-pyridinyl)-N-[4-cyano-2-methyl-6-[(methylamino)carbonyl]phenyl]-1H-pyrazole-5-carboxamide, including its metabolites and degradates, in or on the following commodities: Foliage of legume vegetables (crop group 7), forage at 0.15 ppm, hay at 0.6 ppm; forage, fodder and straw of cereal grains (crop group 16), forage at 0.06 ppm, hay and straw at 0.15 ppm; grass forage, fodder, and hay (crop group 17), forage at 0.06 ppm, hay at 0.15 ppm; leaves of root and tuber vegetables (human food or animal feed) (crop group 2) at 0.04 ppm; nongrass animal feeds (forage, fodder, straw, and hay) (crop group 18), forage at 0.06 ppm, hay at 0.15 ppm; peanut hay at 0.03 ppm; and root and tuber vegetables, root vegetables (crop subgroup 1A) at 0.03 ppm. Adequate analytical methodology, high-pressure liquid chromatography with (HPLC) electrospray tandem mass spectrometry (ESI-MS/MS) detection, is available for enforcement purposes. Contact: Thomas Harris, (703) 308-9423, email address: harris.thomas@epa.gov.

4. PP 1F7953. (EPA-HQ-OPP-2012-0060). Mitsui Chemicals Agro, Inc., c/o Landis International, Inc., P.O. Box 5126, Valdosta, GA 31603, requests to establish a tolerance in 40 CFR part 180 for residues of the insecticide dinotefuran, (RS)-1-methyl-2-nitro-3-(tetrahydro-3-furylmethyl)guanidine and its major metabolites DN, 1-methyl-3-(tetrahydro-3-furylmethyl)guanidine, and UF, 1-methyl-3-(tetrahydro-3-furylmethyl)-urea, in or on rice, grain at 10 ppm. Practical analytical methodology for detecting and measuring levels of dinotefuran and its metabolites, UF and DN, in or on raw agricultural commodities has been conducted. Dinotefuran and its metabolites in the plant matrix extracts were analyzed by HPLC and thin layer chromatography (TLC) to determine the number of metabolites and their relative distribution in the samples. The HPLC method was validated for determination of dinotefuran, DN and UF in or on tomatoes and peppers, cucurbits, Brassica, grapes, potatoes, mustard greens, rice, and lettuce for raw agricultural commodity matrices and in or on tomato paste and puree, grape juice and raisins and potato chips, granules, and wet peel, rice grain, hulls, and bran for processed commodity matrices. After extraction with a water/acetonitrile mixture and clean up with hexane and extraction columns, concentrations of dinotefuran and its metabolites were quantified after HPLC separation by MS/MS detection. Contact: Rita Kumar, (703) 308-8291, email address: kumar.rita@epa.gov.

5. PP 1F7956. (EPA-HQ-OPP-2012-0177). Syngenta Crop Protection, LLC., P.O. Box 18300, Greensboro, NC 27419-8300, requests to establish tolerances in 40 CFR part 180 for residues of the fungicide cyproconazole, in or on peanut, nutmeat at 0.03 ppm; peanut, hay at 6 ppm; peanut, meal at 0.03 ppm; peanut, butter at 0.03 ppm; and peanut, refined oil at 0.03 ppm. An adequate analytical method for cyproconazole, AM-0842-0790-0, is available for enforcement purposes. Determination and quantitation for cyproconazole are conducted using GC employing mass selective detection (MSD). A method for analysis of triazole metabolites is available using Morse Labs Analytical Method No. Meth-160, Revision #2. Residues are quantified by GC equipped with a nitrogen-phosphorous detector (NPD). The limit of quantitation (LOQ) is 0.01 ppm for cyproconazole parent. The analytical method, AM-0842-0790-0, is available in the Pesticide Analytical Manual, Vol. II (PAM II). Contact: Shaunta Hill, (703) 347-8961, email address: hill.shaunta@epa.gov.

6. PP 1F7967. (EPA-HQ-OPP-2012-0092). BASF Corporation, c/o Landis International, Inc., P.O. Box 5126, 3185 Madison Highway, Valdosta, GA 31603, requests to establish a tolerance in 40 CFR part 180 for residues of the insecticide dinotefuran, (RS)-1-methyl-2-nitro-3-(tetrahydro-3-furylmethyl)guanidine, in or on all food/feed items (other than those already covered by a higher tolerance as a result of use on growing crops) in food/feed handling establishments where food products are held, processed or prepared at 0.01 ppm. Practical analytical methodology for detecting the magnitude of residues that accumulate in/on perishable food matrices (butter, processed meat, lettuce, bread, milk, peaches and pie), on non-perishable food matrices ((candy M&Ms), rice, crackers, potatoes and flour) and on bare surfaces (dinner plates, aluminum foil and table knives) following a spot and crack and crevice treatment of dinotefuran in a simulated food handling establishment has been conducted. The analytical method included sample extraction with acetonitrile or acetonitrile/water in conjunction with a solid-phase extraction/clean-up of extracts prior to analysis. Quantitation of dinotefuran in extracts was performed using LC/MS/MS. Contact: Rita Kumar, (703) 308-8291, email address: kumar.rita@epa.gov.

7. PP 2F7973. (EPA-HQ-OPP-2012-0269). BASF Corporation, P.O. Box 13528, Research Triangle Park, NC 27709, requests to establish tolerances in 40 CFR part 180 for residues of the insecticide cyflumetofen, in or on almond, hulls at 4.0 ppm; fruit, citrus, group 10 at 0.3 ppm; citrus, oil at 16 ppm; grape at 0.6 ppm; grape, raisin at 0.9 ppm; fruit, pome, group 11 at 0.3 ppm; strawberry at 0.6 ppm; tomato at 0.2 ppm; and nut, tree, group 14 at 0.01 ppm. The analytical method D1003, “Method for Determination of Residues of Cyflumetofen (BAS 9210 I) and its Metabolites in Plant Matrices using LC-MS/MS” was validated successfully for the analysis of cyflumetofen and its metabolites (B-1, AB-6, and AB-7) in tomato (high water), soybean seed (high oil), rice grain (high starch), dry bean (high protein), orange (high acid), raisins (process fraction), orange oil (process fraction), orange juice (process fraction), and rice straw (feed). Contact: Driss Benmhend, (703) 308-9525, email address: benmhend.driss@epa.gov.

8. PP 2F7976. (EPA-HQ-OPP-2012-0282). Syngenta Crop Protection, LLC., P.O. Box 18300, Greensboro, NC 27419, requests to establish tolerances in 40 CFR part 180 for residues of the fungicide azoxystrobin (methyl (E)-2-(2-[6-(2-cyanophenoxy)pyrimidin-4-yloxy]phenyl)-3-methoxyacrylate) and the Z isomer of azoxystrobin, (methyl (Z)-2-(2-[6-(2-cyanophenoxy)pyrimidin-4-yloxy] phenyl)-3-methoxyacrylate), in or on oat, forage at 4 ppm; oat, hay at 7 ppm; oat, straw at 3 ppm; oat, grain at 1 ppm; rye, forage at 4 ppm; rye, straw at 0.8 ppm and rye, grain at 0.07 ppm and in or on the animal commodities poultry, meat at 0.01 ppm; poultry, fat at 0.01 ppm; poultry, liver at 0.2 ppm; egg at 0.1 ppm; cattle, liver at 0.5 ppm; cattle, kidney at 0.1 ppm; hog, liver at 0.2 ppm and hog, kidney at 0.03 ppm. An adequate analytical method, GC-NPD or in mobile phase by HPLC with ultra-violet (UV) detection (HPLC-UV), is available for enforcement purposes with a LOD that allows monitoring of food with residues at or above the levels set in these tolerances. The Analytical Chemistry section of the EPA concluded that the method(s) are adequate for enforcement. Analytical methods are also available for analyzing meat, milk, poultry and eggs which also underwent successful independent laboratory validations. Contact: Erin Malone, (703) 347-0253, email address: malone.erin@epa.gov.

9. PP 2F7984. (EPA-HQ-OPP-2012-0283). Syngenta Crop Protection, LLC., P.O. Box 18300, Greensboro, NC 27419, requests to establish a tolerance in 40 CFR part 180 for residues of the fungicide azoxystrobin (methyl (E)-2-(2-[6-(2-cyanophenoxy) pyrimidin-4-yloxy]phenyl)-3-methoxyacrylate) and the Z isomer of azoxystrobin, (methyl (Z)-2-(-[6-(2-cyanophenoxy)pyrimidin-4-yloxy] phenyl)-3-methoxyacrylate), in or on the animal commodities poultry, meat at 0.01 ppm; poultry, fat at 0.01 ppm; poultry, liver at 0.2 ppm; egg at 0.1 ppm; cattle, liver at 0.5 ppm; cattle, kidney at 0.1 ppm; hog, liver at 0.2 ppm and hog, kidney at 0.03 ppm. An adequate analytical method, GC-NPD or in mobile phase by HPLC with ultra-violet (UV) detection (HPLC-UV), is available for enforcement purposes with a LOD that allows monitoring of food with residues at or above the levels set in these tolerances. The Analytical Chemistry section of the EPA concluded that the method(s) are adequate for enforcement. Analytical methods are also available for analyzing meat, milk, poultry and eggs which also underwent successful independent laboratory validations. Contact: Erin Malone, (703) 347-0253, email address: malone.erin@epa.gov.

10. PP 2F7997. (EPA-HQ-OPP-2012-0262). BASF Corporation, P.O. Box 13528, Research Triangle Park, NC 27709, requests to establish a tolerance in 40 CFR part 180 for residues of the herbicide topramezone, 3-(4,5-dihydro-3-isoxazolyl)-2-methyl-4-(methylsulfonyl)phenyl](5-hydroxy-1-methyl-1H-pyrazol-4-yl)methanone, in or on fish at 0.05 ppm and shellfish at 0.05 ppm. Suitable independently validated analytical methods (for animal matrices), LC/MS/MS, are submitted for detecting and measuring topramezone levels in or on food with an application LOD that is satisfactory for enforcing the requested tolerances. Contact: Bethany Benbow, (703) 347-8072, email address: benbow.bethany@epa.gov.

11. PP 2F8005. (EPA-HQ-OPP-2012-0308). K-I Chemical U.S.A., Inc., c/o Landis International, Inc., 3185 Madison Highway, P.O. Box 5126,Valdosta, GA 31603-5126, requests to establish tolerances in 40 CFR part 180 for residues of the herbicide pyroxasulfone (3-[(5-(difluoromethoxy)-1-methyl-3-(trifluoromethyl) pyrazole-4-ylmethylsulfonyl]-4,5-dihydro-5,5-dimethyl-1,2-oxazole) and its metabolites M-3 (5-difluoromethoxy-1-methyl-3-trifluoromethyl-1H-pyrazol-4-carboxylic acid), M-25 (5-difluoromethoxy-3-trifluoromethyl-1H-pyrazol-4-yl)methanesulfonic acid and M-28 (3-[1-carboxy-2-(5,5-dimethyl-4,5-dihydroisoxazol-3-ylthio)ethylamino]-3-oxopropanoic acid) calculated as the stoichiometric equivalent of pyroxasulfone, in or on soybean, seed at 0.07 ppm; and pyroxasulfone (3-[(5-(difluoromethoxy)-1-methyl-3-(trifluoromethyl) pyrazole-4-ylmethylsulfonyl]-4,5-dihydro-5,5-dimethyl-1,2-oxazole) and its metabolites M-1 (5-difluoromethoxy-1-methyl-3-trifluoromethyl-1H-pyrazol-4-ylmethanesulfonic acid), M-3 (5-difluoromethoxy-1-methyl-3-trifluoromethyl-1H-pyrazol-4-carboxylic acid), and M-25 (5-difluoromethoxy-3-trifluoromethyl-1H-pyrazol-4-yl)methanesulfonic acid) calculated as the stoichiometric equivalent of pyroxasulfone in or on soybean, forage at 1.5 ppm and soybean, hay at 2.0 ppm. EPA has approved an analytical enforcement methodology including LC/MS/MS to enforce the tolerance expression for pyroxasulfone. Contact: Michael Walsh, (703) 308-2972, email address: walsh.michael@epa.gov.

Amended Tolerances

1. PP 2E7993. (EPA-HQ-OPP-2012-0241). Interregional Research Project Number 4 (IR-4), 500 College Road East, Suite 201 W, Princeton, NJ 08540, requests to amend the tolerance in 40 CFR 180.300 by increasing the tolerance for residues of the plant regulator ethephon, in or on tomato from 2.0 ppm to 3.5 ppm. The increased tolerance is required to accommodate tomatoes of less than one inch in diameter grown in the greenhouse. Adequate methods for purposes of enforcement of ethephon tolerances in plant commodities, ruminant tissues and milk are available. The FDA (PAM Vol. I Appendix, 8/93) indicates that ethephon is not recovered through any of the Multiresidue Protocols. Contact: Andrew Ertman, (703) 308-9367, email address: ertman.andrew@epa.gov.

2. PP 2F7975. (EPA-HQ-OPP-2012-0246). Syngenta Crop Protection, LLC, P.O. Box 18300, Greensboro, NC 27419, requests to amend the tolerances in 40 CFR 180.434 for residues of the fungicide propiconazole, 1H-1,2,4-Triazole, 1-([2-(4-dichlorophenyl)-4-propyl-1,3-dioxolan-2-yl]methyl)-, and its metabolites determined as 2,4-dichlorobenzoic acid and expressed as parent compound, in or on barley, hay from 1.4 ppm to 30 ppm; barley, straw from 10 ppm to 20 ppm; barley, grain from 0.3 ppm to 3 ppm; oat, forage from 1.7 ppm to 4 ppm; oat, hay from 1.4 ppm to 15 ppm; oat, grain from 0.3 ppm to 3 ppm; rye, forage from 1.7 ppm to 9 ppm; rye, straw from 10 ppm to 9 ppm; wheat, forage from 1.7 ppm to 15 ppm; wheat, hay from 1.4 ppm to 30 ppm; wheat, straw from 10 ppm to 20 ppm; and grain, aspirated fraction from 30 ppm to 108 ppm. Analytical methods adequate to determine parent propiconazole, total propiconazole as 2,4-dichlorobenzoic acid, and the triazole metabolites (1,2,4-Triazole, Triazole Alanine, and Triazole Acetic Acid) are available for enforcement purposes with LOD that allow monitoring of food with residues at or above the levels set in this tolerance. Contact: Heather Garvie, (703) 308-0034, email address: garvie.heather@epa.gov.

3. PP 2F7976. (EPA-HQ-OPP-2012-0282). Syngenta Crop Protection, LLC., P.O. Box 18300, Greensboro, NC 27419, requests to amend the tolerances in 40 CFR 180.507 for residues of the fungicide azoxystrobin (methyl (E)-2-(2-[6-(2-cyanophenoxy) pyrimidin-4-yloxy]phenyl)-3-methoxyacrylate) and the Z isomer of azoxystrobin, (methyl (Z)-2-(2-[6-(2-cyanophenoxy)pyrimidin-4-yloxy] phenyl)-3-methoxyacrylate), in or on animal commodities cattle, fat from 0.03 ppm to 0.3 ppm; hog, fat from 0.010 ppm to 0.1 ppm and hog, meat from 0.01 to 0.02 ppm. An adequate analytical method, GC-NPD or in mobile phase by HPLC with ultra-violet (UV) detection (HPLC-UV), is available for enforcement purposes with a LOD that allows monitoring of food with residues at or above the levels set in these tolerances. The Analytical Chemistry section of the EPA concluded that the method(s) are adequate for enforcement. Analytical methods are also available for analyzing meat, milk, poultry and eggs which also underwent successful independent laboratory validations. Contact: Erin Malone, (703) 347-0253, email address: malone.erin@epa.gov.

4. PP 2F7981. (EPA-HQ-OPP-2007-0099). Nichino America, Inc., 4550 New Linden Hill Road, Suite 501, Wilmington, DE 19808, has requested that the established tolerances listed in 40 CFR 180.639 for residues of the insecticide flubendiamide per se, (N² -[1,1-dimethyl-2-(methylsulfonyl)ethyl]-3-iodo-N¹-[2-methyl-4-[1,2,2,2-tetrafluoro-1-(trifluoromethyl) ethyl]phenyl]-1,2-benzenedicarboxamide), in or on apple, wet pomace be increased from 2.0 ppm to 5.0 ppm; and fruit, pome, group 11 be increased from 0.70 ppm to 1.5 ppm. Adequate enforcement methodology, LC/MS/MS detection (Methods 00816/M002 and 00912), is available to enforce the tolerance expression. Contact: Carmen Rodia, (703) 306-0327, email address: rodia.carmen@epa.gov.

5. PP 2F7984. (EPA-HQ-OPP-2012-0283). Syngenta Crop Protection, LLC., P.O. Box 18300, Greensboro, NC 27419, requests to amend the tolerances in 40 CFR 180.507 for residues of the fungicide azoxystrobin (methyl (E)-2-(2-[6-(2-cyanophenoxy) pyrimidin-4-yloxy]phenyl)-3-methoxyacrylate) and the Z isomer of azoxystrobin, (methyl (Z)-2-(2-[6-(2-cyanophenoxy)pyrimidin-4-yloxy] phenyl)-3-methoxyacrylate), in or on barley, hay from 15 ppm to 7 ppm; barley, straw from 7 ppm to 8 ppm; barley, grain from 3 ppm to 2 ppm; wheat, forage from 25 ppm to 10 ppm; wheat, hay from 15 ppm to 20 ppm; wheat, straw from 4 ppm to 6 ppm and grain, aspirated fraction from 420 ppm to 460 ppm and in or on the animal commodities cattle, fat from 0.03 ppm to 0.3 ppm; hog, fat from 0.010 ppm to 0.1 ppm and hog, meat from 0.01 to 0.02 ppm. An adequate analytical method, GC-NPD or in mobile phase by HPLC with ultra-violet (UV) detection (HPLC-UV), is available for enforcement purposes with a LOD that allows monitoring of food with residues at or above the levels set in these tolerances. The Analytical Chemistry section of the EPA concluded that the method(s) are adequate for enforcement. Analytical methods are also available for analyzing meat, milk, poultry and eggs which also underwent successful independent laboratory validations. Contact: Erin Malone, (703) 347-0253, email address: malone.erin@epa.gov.

List of Subjects in 40 CFR Part 180

Environmental protection, Agricultural commodities, Feed additives, Food additives, Pesticides and pests, Reporting and recordkeeping requirements.

Dated: May 9, 2012.
Lois Rossi,
Director, Registration Division, Office of Pesticide Programs.

[FR Doc. 2012-12126 Filed 5-22-12; 8:45 am]

BILLING CODE 6560-50-P